DEPARTMENT OF STATE

[Public Notice 7236]

Announcement of a Meeting of the International Telecommunication Advisory Committee

SUMMARY: This notice announces a meeting of the International Telecommunication Advisory Committee (ITAC) to prepare for the International Telecommunication Union (ITU) World Conference on International Telecommunications, as well as for the Organization of American States' Inter-American Telecommunication Commission (CITEL) Permanent Consultative Committee I.

The ITAC will meet to begin preparation of advice for the U.S. government for the ITU World Conference on International Telecommunications, as well as the CITEL Permanent Consultative Committee I meeting. There will also be reports on the upcoming World Radiocommunication Conference Preparatory Meeting, the ITU Telecommunication Standardization Advisory Group meeting, and on other recent meetings of the sectors of the ITU, the Organization for Economic Cooperation and Development, and the Asia-Pacific Economic Cooperation's telecommunications meetings.

The ITAC will meet from 2 to 4 p.m. on February 3, 2011 at 1120 20th Street, NW., 10th floor, Washington, DC 20036. This meeting is open to the public as seating capacity allows. The public will have an opportunity to provide comments at this meeting. Any requests for reasonable accommodation should be made at least 7 days before the meeting. All such requests will be considered, however, requests made after that date might not be possible to fulfill. Those desiring further information on this meeting may contact the Secretariat at jillsonad@state.gov mailto: jillsonad@state.gov or at (202) 647-2592. Anyone interested in the work of this advisory committee may subscribe to an e-mail service that provides time-sensitive information about preparations for upcoming international meetings. This service is free. To sign up, contact Ms. Anne Jillson at the e-mail above.

Dated: January 4, 2011.
Richard C. Beaird,
International Communications & Information Policy, U.S. Department of State.

[FR Doc. 2011-360 Filed 1-10-11; 8:45 am]

BILLING CODE 4710-07-P